SMALL BUSINESS ADMINISTRATION

Notice of Pre-Disaster Mitigation Loans (Pilot Program)

As a result of the Pre-Disaster Mitigation Loans Final Rule published in the Federal Register October 7, 2002, the SBA is announcing the availability of Pre-Disaster Mitigation Loans. This notice establishes the application filing period for Pre-Disaster Mitigation Loans. Effective June 16, 2003, small businesses located in eligible participating communities determined by the Federal Emergency Management Agency may apply for low interest, fixed rate loans for the purpose of implementing mitigation measures that will protect their commercial real property (building) or leasehold improvements or contents from disaster related damage. The filing period for small businesses to apply for Pre-Disaster Mitigation Loans ends on July 16, 2003. The interest rate for eligible small businesses is 2.953 percent.

Applications for Pre-Disaster Mitigation Loans may be obtained and filed at the addresses listed below:

U.S. Small Business Administration, Disaster Area 1 Office, 360 Rainbow Blvd., South, 3rd Fl., Niagara Falls, NY 14303, 1-800-659-2955.

Area 1 serves the following: Connecticut, District of Columbia, Delaware, Maryland, Maine, Massachusetts, New Hampshire, New Jersey, New York, Pennsylvania, Rhode Island, Virginia, Vermont, West Virginia, Puerto Rico, Virgin Islands (Dec. # M103).

U.S. Small Business Administration, Disaster Area 2 Office, One Baltimore Place, Suite 300, Atlanta, GA 30308, 1-800-359-2227.

Area 2 serves the following: Alabama, Florida, Georgia, Illinois, Indiana, Kentucky, Michigan, Minnesota, Mississippi, North Carolina, Ohio, South Carolina, Tennessee, Wisconsin (Dec. # M203).

U.S. Small Business Administration, Disaster Area 3 Office, 4400 Amon Carter Blvd., Suite 102, Ft. Worth, TX 75155, 1-800-366-6303.

Area 3 serves the following: Arkansas, Colorado, Iowa, Kansas, Louisiana, Missouri, Montana, North Dakota, Nebraska, New Mexico, South Dakota, Oklahoma, Texas, Utah, Wyoming (Dec. # M303).

U.S. Small Business Administration, Disaster Area 4 Office, P.O. Box 13795, Sacramento, CA 95853-4795. 1-800-488-5323.

Area 4 serves the following: Alaska, Arizona, California, Hawaii, Idaho, Nevada, Oregon, Washington, American Samoa, the Federated States of Micronesia, Guam, Republic of the Marshall Islands, Commonwealth of the Northern Mariana Islands (Dec. # M403).

(Catalog of Federal Domestic Assistance Program No. 59008.)
Dated: May 28, 2003.
Herbert L. Mitchell,
Associate Administrator for Disaster Assistance.

[FR Doc. 03-13983 Filed 6-3-03; 8:45 am]

BILLING CODE 8025-01-P